DEPARTMENT OF HEALTH AND HUMAN SERVICES

Administration for Children and Families, Family and Youth Services Bureau

Notice of a Funding Opportunity

Funding Opportunity Title: Mentoring Children of Prisoners.

Announcement Type: Competitive Grant—Initial.

Funding Opportunity Number: HHS-2004-ACF-ACYF-CU-0001.

CFDA Number: 93.616.

DATES: April 23, 2004.

I. Funding Opportunity Description

The Family and Youth Services Bureau (FYSB) within the Administration for Children and Families (ACF) announces the availability of financial assistance and the request for applications for the FY 2004 Mentoring Children of Prisoners Program activities under section 439, Title IV-B, subpart 2 of the Social Security Act, as amended. The purpose of this program is to make competitive grants to applicants in urban, suburban, rural, and tribal populations with substantial numbers of children of incarcerated parents and to support the establishment or expansion of programs using a network of public and private entities to provide mentoring services to these children.

Background on Mentoring Children of Prisoners

Across our Nation, many Americans are responding to the call to service by mentoring a child in need. By offering love, guidance, and encouragement, mentors put hope in children's hearts, and help ensure that young people realize their full potential.

President George W. Bush, January 2003.

Witnessing and living with the arrest and incarceration of a parent is devastating for children and families. The living conditions, family configurations, and problems faced by the parents make it likely that significant numbers of children of prisoners will suffer emotional and behavioral difficulties. Economic, social, and emotional burdens are often placed on families and caretakers, especially children. Family relationships are strained and any existing stability is compromised. As a result, the majority of these children experience multiple changes of caregivers and/or living arrangements.

What Are the Effects of Incarceration on the Child?

Research has found that long term physical absence of a parent has profound effects on child development. Children of incarcerated parents are seven times more likely to become involved in the juvenile and adult criminal justice systems. Parental arrest and confinement often lead to stress, trauma, stigmatization, and separation problems which may be compounded by existing poverty, violence, substance abuse, high-crime environments, child abuse and neglect, multiple caregivers, and/or prior separations. These children are more likely to develop attachment disorders and often exhibit broad varieties of behavioral, emotional, health, and educational problems. Many children of incarcerated parents are angry and lash out at others leading to confrontations with law enforcement. Lacking the support of families, schools, and other community institutions, they often do not develop values and social skills leading to the formation of successful relationships.

Who Are the Children?

Between 1991 and 1999, the number of children with a parent in a Federal or State correctional facility increased by more than 100 percent, from approximately 900,000 to approximately 2,000,000. Like their parents, children of criminal offenders reflect the racial differences of the incarcerated populations. Seven percent of African American children have an incarcerated parent; almost three percent of Hispanic children have an incarcerated parent, while less than one percent of white children have an incarcerated parent.

Who Are the Parents?

According to the 2001 national data from the Bureau of Justice Statistics, 3.5 million parents were supervised by the correctional system. Prior to incarceration, 64 percent of female prisoners and 44 percent of male prisoners in State facilities lived with their children. During incarceration nearly 90 percent of children of incarcerated fathers lived with their mothers and 79 percent of children of incarcerated mothers lived with a grandparent or other relative. Although research has indicated that parents and children should visit one another, less than 50 percent of prisoners receive visits from their children. In a number of cases, the caregiver may not allow the child to visit the inmate and prisons are often located far away from the urban areas where most children of prisoners live. According to the Bureau of Prisons, there is evidence to suggest that inmates who are connected to their children and families are more likely to avoid negative incidents and have reduced sentences.

Who Are the Mentors?

Mentors are recruited from a variety of sources including congregations, religious non-profit organizations, community-based organizations, service organizations, Senior Corps, and the business community. Research has shown that the health and productivity of mentors is enhanced by their connection to a child in need.

How Can Mentoring Help?

It has been demonstrated that mentoring is a potent force for improving youth outcomes. Mentoring increases the likelihood of regular school attendance and academic achievement. It also decreases the chances of engaging in self-destructive or violent behavior. A trusting relationship with a caring adult will provide stability and often have a profound, life-changing effect on the child. Mentoring provides the incarcerated parent with the assurance that somebody is there to look after the best interests of their child.

What Are Possible Outcomes?

Research confirms the societal benefits of mentoring efforts with children. Specifically, data indicates that mentoring programs have reduced first time drug use by almost 50 percent and first-time alcohol use by 33 percent. Also, caregiver and peer relationships are shown to improve. In addition, mentored youth displayed greater confidence in their schoolwork and improved their academic performance.

How Are Matches Initiated and Monitored?

Parents, incarcerated parents, caretakers, schools, courts, social service organizations, or congregations will identify children in need of a mentor and initiate the referral to a mentoring organization. The mentoring organization will facilitate and monitor the match by allowing parents and other stakeholders opportunities to provide feedback on the match. The mentoring organization will develop and distribute status reports to appropriate interested parties.

What Happens When Parents Return Home From Prison?

Mentors are not meant to be “replacement parents.” In situations where incarcerated parents were actively engaged in the mentoring process, through visits, phone conversations or letters, reunification is a natural process with realistic expectations. Mentors can help facilitate a smooth reentry by helping parents reconnect with their child and are often invited to continue to be a supportive resource well after the return of the parent.

What Is the Family and Youth Services Bureau?

For over 30 years, the Family and Youth Services Bureau (FYSB) within the Administration for Children and Families (ACF) has provided grants at the local level to Community and Faith-based organizations serving a population of vulnerable youth, including runaway, homeless, and street youth.

Definitions

Children of Prisoners: Children, where one or both parents are incarcerated in a Federal, State or local correctional facility, on parole or on probation. A child whose parent is on parole or probation is eligible to participate in the mentoring program if the linkage is made while the parent is still incarcerated. Children of persons incarcerated in local facilities become eligible for the mentoring program only in the unfortunate instance that the parent is remanded to custody or the State department of corrections. Children must be 4 years to 14 years of age when they begin to receive services.

Mentoring: A structured, managed program in which children are appropriately matched with screened and trained adult volunteers for one-to-one relationships. This involves meetings and activities on a regular basis between the mentors and children to support a child's need for a caring and supportive adult in his life.

Prisoner: Adult who is incarcerated in a Federal or State correctional facility or is being held in a local facility but is remanded to the custody of a State department of corrections.

Caretaker: The parent or legal guardian charged with the responsibility of caring for a child while the parent is incarcerated.

Mentoring Organization: The community or faith-based organization that coordinates local entities participating in the provision of mentoring services and the mentoring support network. Mentoring organizations will be responsible for the application and performance of the grant. They also will be responsible for providing the cash or in-kind contribution.

Mentoring Services: Those services and activities that support a structured, managed program of mentoring, including the management by trained personnel of outreach to and screening of eligible children; outreach to, education, and training of and liaison with sponsoring local organizations; screening and training of adult volunteers; matching of children with suitable adult volunteer mentors; support and oversight of the mentoring relationship; and establishment of goals and evaluation of outcomes for mentored children.

Projects Funded Under This Program Must Do the Following Things

(a) Link children with mentors who have:

• Received training and support in mentoring;

• Completed screening and reference checks, including child and domestic abuse records checks and criminal background checks; and

• Expressed an interest in working with children in disadvantaged situations.

(b) Incorporate the elements of Positive Youth Development by providing youth with:

• Safe and trusting relationships;

• Healthy messages about life and social behavior;

• Guidance from a positive adult role model;

• Increased and enhanced participation in education for positive outcomes;

• Participation in civic service and community activities.

(c) Coordinate with partnering groups to develop a plan for the whole family:

• Connect the child with the imprisoned parent with permission from the other spouse or guardian;

• Coordinate support services to siblings and families;

• Support caregivers with training and help navigating the services provided by the mentoring network.

II. Award Information

Funding Instrument Type: Grant.

Anticipated total Priority Area Funding: $50,000,000.

Anticipated Number of Awards: 150-200.

Ceiling on amount of individual Awards: $ 1,000,000.

Floor of Individual Award Amounts: None.

Average projected Award Amount: $100,000 to $1,000,000; Funds are pending appropriation action by the Congress.

Project Periods for Awards: 36 month project periods with 12 month budget periods.

III. Eligibility Information

1. Eligible Applicants

County governments, City or township governments, Special district governments, Independent school districts, State controlled institutions of higher education, Native American tribal governments(Federally recognized), Public housing authorities/Indian housing authorities, Native American tribal organizations (other than Federally recognized tribal governments), Non-profits having a 501(C)3 status, and Non-profits that do not have 501(C)3 status.

Additional Information on Eligibility: Those eligible to apply for funding under this grant competition include faith and community-based organizations, tribal governments or consortia, and State and local governments where substantial numbers of children of prisoners live as compared to the national average. Applicants must apply to establish new programs or to expand existing programs utilizing a network of public and private community entities to provide mentoring services for children of prisoners. Collaboration among eligible entities is strongly encouraged. All eligible organizations, including faith-based organizations, are eligible to compete on equal footing for Federal financial assistance used to support social services programs. No organizations can be discriminated against on the basis of religion in the administration or distribution of Federal financial assistance under social service programs. Faith-based organizations are eligible to compete for Federal financial assistance while retaining their identity, mission, religious references, and governance. However, faith-based organizations that receive funding may not use Federal financial assistance, including funds, to meet any cost-sharing requirements or to support inherently religious activities, such as worship, religious instruction, or prayer.

Proof of non-profit status is any one of the following:

(a) A reference to the applicant organization's listing in the Internal Revenue Service's (IRS) most recent list of tax-exempt organizations described in the IRS code.

(b) A copy of a currently valid IRS tax exemption certificate.

(c) A statement from a State taxing body, State Attorney General, or other appropriate State official certifying that the applicant organization has a non-profit status and that none of the net earnings accrue to any private shareholders or individuals.

(d) A certified copy of the organization's certificate of incorporation or similar document that clearly establishes non-profit status.

(e) Any of the items in the subparagraphs immediately above for a State or national parent organization and a statement signed by the parent organization that the applicant organization is a local non-profit affiliate.

Applicants are cautioned that the ceiling for individual awards is $1,000,000. Applications exceeding the $1,000,000 threshold will be returned without review.

Applications that fail to include the required amount of cost-sharing will be considered non-responsive and will not be eligible for funding under this announcement.

2. Cost Sharing or Matching

For the first and second years of the grant, grantees must provide at least 25 percent of the total Federal funds awarded. In the third year of the grant, the grantee must account for at least 50 percent of the total project budget. The total approved cost of the project is the sum of the Federal share and the non-Federal share. If the total project cost is $200,000, then the applicant must demonstrate a commitment of at least a $50,000 match and request funding of $150,000 from the Federal government. The Federal share may be matched by cash or in-kind contributions, although applicants are encouraged to meet their requirement through cash contributions. In determining the amount of the non-Federal share, the fair market value will be attributed to goods, services (excluding mentoring time and services) and facilities contributed from non-Federal sources. Mentoring time and services are not allowable as in-kind costs. Grantees will be held accountable for commitments of non-Federal resources even if they are over the amount of the required match. The failure to provide the amount required will result in disallowance of Federal share.

Applications that fail to include the required amount of cost-sharing will be considered non-responsive and will not be eligible for funding under this announcement.

3. Other (if Applicable)

On June 27, 2003, the Office of Management and Budget published in the Federal Register a new Federal policy applicable to all Federal grant applicants. The policy requires all Federal grant applicants to provide a Dun and Bradstreet Data Universal Numbering System (DUNS) number when applying for Federal grants or cooperative agreements on or after October 1, 2003. The DUNS number will be required whether an applicant is submitting a paper application or using the government-wide electronic portal (http://www.Grants.gov). A DUNS number will be required for every application for a new award or renewal/continuation of an award, including applications or plans under formula, entitlement and block grant programs, submitted on or after October 1, 2003.

Please ensure that your organization has a DUNS number. You may acquire a DUNS number at no cost by calling the dedicated toll-free DUNS number request line on 1-866-705-5711 or you may request a number on-line at­ http://www.dnb.com.

Applications exceeding the $1,000,000 threshold will be returned without review.

Applications that fail to include the required amount of cost-sharing will be considered non-responsive and will not be eligible for funding under this announcement.

Program Guidance: To be eligible for funding, a project must propose mentoring programs and activities to serve the children of prisoners in areas with a comparative severity of need for mentoring services, taking into consideration data on the numbers of children (particularly of low-income children) with an incarcerated parent (or parents/family) from the service delivery area.

Applicants are cautioned that the ceiling for individual awards is $1,000,000.

IV. Application and Submission Information

1. Address to Request Application Package

ACYF Operations, The Dixon Group, ATTN: Sylvia Johnson, 118 Q Street, NE., Washington DC 20002-2132; Telephone: (866) 796-1591. E-mail address: FYSB@dixongroup.com.

2. Content and Form of Application Submission

An original and two copies of the complete application are required. The original and 2 copies must include all required forms, certifications, assurances, and appendices, be signed by an authorized representative, have original signatures, and be submitted unbound. Applicants have the option of omitting from the application copies (not the original) specific salary rates or amounts for individuals specified in the application budget.

You may submit your application to us either in electronic or paper format. To submit an application electronically, please use the http://www.Grants.Gov apply site. If you use Grants.Gov you will be able to download a copy of the application package, complete it off-line, and then upload and submit the application via the Grants.Gov site. You may not e-mail an electronic copy of a grant application to us.

Please note the following if you plan to submit your application electronically via Grants.Gov.

• Electronic submission is voluntary

• When you enter the Grants.Gov site, you will find information about submitting an application electronically through the site, as well as the hours of operation. We strongly recommend that you do not wait until the application deadline date to begin the application process through Grants.Gov.

• To use Grants.Gov, you, as the applicant, must have a DUNS Number and register in the Central Contractor Registry (CCR). You should allow a minimum of five days to complete the CCR registration.

• You will not receive additional point value because you submit a grant application in paper format.

• You may submit all documents electronically, including all information typically included on the SF424 and all necessary assurances and certifications.

• Your application must comply with any page limitation requirements described in this program announcement.

• After you electronically submit your application, you will receive an automatic acknowledgement from Grants.Gov that contains a Grants.Gov tracking number. The Administration for Children and Families will retrieve your application from Grants.Gov.

• We may request that you provide original signatures on forms at a later date.

• You may access the electronic application for this program on http://www.Grants.Gov. You must search for the downloadable application package by the CFDA number.

Application Requirements: Each application must be submitted in accordance with the guidance provided below.

(a) The application must be signed by an individual authorized to act for the applicant agency and to assume responsibility for the obligations imposed by terms and conditions of the grant award.

(b) If more than one agency is involved in submitting a single application, one entity must be identified as the applicant organization that will have legal responsibility for the grant.

Forms and Certifications: The project description should include all the information requirements described in the specific evaluation criteria outlined in the program announcement under Part V. In addition to the project description, the applicant needs to complete all the standard forms required for making applications for awards under this announcement. Applicants requesting financial assistance for non-construction projects must file the Standard Form 424B, “Assurances: Non-Construction Programs.” Applicants must sign and return the Standard Form 424B with their applications. Applicants must provide a certification regarding lobbying when applying for an award in excess of $100,000. Applicants must sign and return the certification with their applications. Applicants must disclose lobbying activities on the Standard Form LLL when applying for an award in excess of $100,000. Applicants who have used non-Federal funds for lobbying activities in connection with receiving assistance under this announcement shall complete a disclosure form, if applicable, with their applications. The forms (Forms 424, 424A-B) and Certifications may be found at: http://www.acf.hhs.gov/programs/ofs/forms.htm under new announcements. Fill out Standard Forms 424 and 424A and the associated certifications and assurances based on the instructions on the forms.

Private, non-profit organizations are encouraged to submit with their applications the survey located under “Grant Related Documents and Forms” titled “Survey for Private, Non-Profit Grant Applicants.” The forms are located on the Web at http://www.acf.hhs.gov/programs/ofs/forms.htm.

Project Summary Abstract: Provide a one page (or less) summary of the project description with reference to the funding request.

Full Project Description Requirements: Describe the project clearly in 30 pages or less (not counting supplemental documentation, letters of support or agreements) using the following outline and guidelines. Applicants are required to submit a Full Project Description and must prepare the project description statement in accordance with the following instructions. The pages of the project description must be numbered and are limited to 30 typed pages starting on page 1 of “Objectives and Need of Assistance”. The description must be doubled-spaced, printed on only one side, with at least ½ inch margins. Pages over the limit will be removed from the competition and will not be reviewed.

It is in the applicant's best interest to ensure that the project description is easy to read, logically developed in accordance with the evaluation criteria and adheres to page limitations. In addition, applicants should be mindful of the importance of preparing and submitting applications using language, terms, concepts and descriptions that are generally known by both the targeted youth and the broader youth services field. The maximum number of pages for supplemental documentation is 10 pages. The supplemental documentation, subject to the 10-page limit, must be numbered and might include brief resumes, position descriptions, proof of non-profit status (if applicable), news clippings, press releases, etc. Supplemental documentation over the 10-page limit will not be reviewed.

Applicants must include letters of support or agreement, if appropriate or applicable, in reference to the project description. Letters of support are not counted as part of the 30-page project description limit or the 10-page supplemental documentation limit. (Note: Applicable agreements are those between grantees and sub-grantees or sub-contractors or other cooperating entities which support or complement the provision of mandated services to children of prisoners.)

Application Assurances: In addition to the standard assurances of safety, applicants must provide the following assurances:

• Mentors will not be assigned more children than can be served without undermining the mentor's ability to be effective.

• Grantees will recruit mentors who are committed to spending at least one hour per week with assigned children for a period of at least one year.

• The mentoring program will provide children with emotional and academic support as well as exposure to a variety of experiences that they might not otherwise encounter.

• The program will be monitored to ensure that each child benefits from the match. If the match is not found to be beneficial to the child a new mentor will be assigned.

• The program will cooperate with any research or evaluation efforts sponsored by the Administration for Children and Families.

• The program will submit quarterly program reports and annual financial reports, as instructed by FYSB.

• The program will set aside funding for travel to inform FYSB and meet with other grantees at an annual sharing and technical assistance meeting.

3. Submission Dates and Times

The closing date for submission of applications is April 23, 2004. Mailed applications postmarked after the closing date will be classified as late.

Deadline: Mailed applications shall be considered as meeting an announced deadline if they are postmarked on or before April 23, 2004 or sent on or before the deadline date and received by ACF in time for the independent review. Applications must be mailed to the following address: ACYF Operations, The Dixon Group, ATTN: Sylvia Johnson, 118 Q Street, NE., Washington, DC 20002-2132.

Applicants must ensure that a legibly dated U.S. Postal Service postmark or a legibly dated, machine produced postmark of a commercial mail service is affixed to the envelope/package containing the application(s). To be acceptable as proof of a timely mailing, a postmark from a commercial mail service must include the logo/emblem of the commercial mail service company and must reflect the date the package was received by the commercial mail service company from the applicant. Private Metered postmarks shall not be acceptable as proof of timely mailing. Applicants are cautioned that express/overnight mail services do not always deliver as agreed.

Applications hand-carried by applicants, applicant couriers, or by other representatives of the applicant shall be considered as meeting an announced deadline if they are received on or before the deadline date, between the hours of 8 a.m. and 4:30 p.m., e.s.t., at ACYF Operations, The Dixon Group, ATTN: Sylvia Johnson, 118 Q Street, NE., Washington, DC 20002-2132, between Monday and Friday (excluding Federal holidays). This address must appear on the envelope/package containing the application with the note “ATTN: Sylvia Johnson”. Applicants are cautioned that express/overnight mail services do not always deliver as agreed.

Late applications: Applications which do not meet the criteria above are considered late applications. ACF shall notify each late applicant that its application will not be considered in the current competition.

Extension of deadlines: ACF may extend application deadlines when circumstances such as acts of God (floods, hurricanes, etc.) occur, or when there are widespread disruptions of mails service. Determinations to extend or waive deadline requirements rest with the Chief Grants Management Officer.

Required Forms:

What to submit | Required content | Required form or format | When to submit
Narrative | Described in Section I of this Announcement | Format described in Section V | By application due date.
SF 424, SF 424A, and SF 424B | Per required form | May be found at http://www.acf.hhs.gov/programs/ofs/forms.htm | By application due date.
Certification regarding Lobbying and associated Disclosure of Lobbying Activities (SF LLL) | Per required form | May be found at http://www.acf.hhs.gov/programs/ofs/forms.htm | By application due date.
Environmental Tobacco Smoke Certification | Per required form | May be found at http://www.acf.hhs.gov/programs/ofs/forms.htm | By application due date.

Additional Forms: Private-non-profit organizations may submit with their applications the additional survey located under “Grant Related Documents and Forms” titled “Survey for Private, Non-Profit Grant Applicants”.

What to submit | Required content | Required form or format | When to submit
Survey for Private, Non-Profit Grant Applicants | Per required form | May be found on http://www.acf.hhs.gov/programs/ofs/form.htm | By application due date.

4. Intergovernmental Review

State Single Point of Contact (SPOC)

This program is covered under Executive Order 12372, “Intergovernmental Review of Federal Programs,” and 45 CFR Part 100, “Intergovernmental Review of Department of Health and Human Services Programs and Activities.” Under the Order, States may design their own processes for reviewing and commenting on proposed Federal assistance under covered programs. As of June 20, 2001, the following jurisdictions have elected not to participate in the Executive Order process. Applicants from these jurisdictions or for projects administered by federally-recognized Indian Tribes need take no action in regard to E.O. 12372:

All States and Territories except Alabama, Alaska, Arizona, Colorado, Connecticut, Hawaii, Idaho, Indiana, Kansas, Louisiana, Massachusetts, Minnesota, Montana, Nebraska, New Jersey, Ohio, Oklahoma, Oregon, Pennsylvania, South Dakota, Tennessee, Vermont, Virginia, Washington and Wyoming have elected to participate in the Executive Order process and have established Single Point of Contacts (SPOCs). Applicants from these twenty-five jurisdictions need take no action regarding Executive Order 12372.

Although the jurisdictions listed above no longer participate in the process, entities which have met the eligibility requirements of the program are still eligible to apply for a grant even if a State, Territory, Commonwealth, etc. does not have a SPOC. All remaining jurisdictions participate in the Executive Order process and have established SPOCs. Applicants from participating jurisdictions should contact their SPOCs as soon as possible to alert them about the prospective applications and receive instructions. Applicants must submit any required material to the SPOCs as soon as possible so that the program office can obtain and review SPOC comments as part of the award process. The applicant must submit all required materials, if any, to the SPOC and indicate the date of this submittal (or the date of contact if no submittal is required) on the Standard Form 424, item 16a. Under 45 CFR 100.8(a)(2), a SPOC has 60 days from the application deadline to comment on proposed new or competing continuation awards.

SPOCs are encouraged to eliminate the submission of routine endorsements as official recommendations. Additionally, SPOCs are requested to clearly differentiate between mere advisory comments and those official State process recommendations which may trigger the “accommodate or explain” rule.

Comments should be submitted directly to Department of Health and Human Services, Administration for Children and Families, Division of Discretionary Grants, 370 L'Enfant Promenade, SW., Washington, DC 20447. A list of the Single Points of Contact for each State and Territory is included with the application materials for this announcement.

5. Funding Restrictions

Applicants are cautioned that the ceiling for individual awards is $1,000,000. Applications exceeding the $1,000,000 threshold will be returned without review.

6. Other Submission Requirements

Submission by Mail: An Applicant must provide an original application with all attachments, signed by an authorized representative and two copies. The Application must be received at the address below by 5 p.m. Eastern Standard Time on or before the closing date. Applications should be mailed to:

ACYF Operations, The Dixon Group, ATTN: Sylvia Johnson, 118 Q Street, NE., Washington, DC 20002-2132.

For Hand Delivery: Applicant must provide an original application with all attachments, signed by an authorized representative and two copies. The Application must be received at the address below by 4:30 p.m. eastern standard time on or before the closing date. Applications that are hand delivered will be accepted between the hours of 8 a.m. to 4:30 p.m., Monday through Friday. Applications may be delivered to: ACYF Operations, The Dixon Group, ATTN: Sylvia Johnson, 118 Q Street, NE.,Washington, DC 20002-2132. It is strongly recommended that applicants obtain documentation that the application was hand delivered on or before the closing date. Applicants are cautioned that express/overnight mail services do not always deliver as agreed.

V. Application Review Information

1. Criteria

Instructions: ACF Uniform Project Description (UPD)

The following are instructions and guidelines on how to prepare the “project summary/abstract” and “Full Project Description” sections of the application. Under the evaluation criteria section, note that each criterion is preceded by the generic evaluation requirement under the ACF Uniform Project Description (UPD). The UPD was approved by the Office of Management and Budget (OMB), Control Number 0970-0139, expiration date 03/31/04. The generic UPD requirement is followed by the evaluation criterion specific to the Promoting Safe and Stable Families Act.

Objectives and Need for Assistance

Clearly identify the physical, economic, social, financial, institutional, and/or other problem(s) requiring a solution. The need for assistance must be demonstrated and the principal and subordinate objectives of the project must be clearly stated; supporting documentation, such as letters of support and testimonials from concerned interests other than the applicant, may be included. Any relevant data based on planning studies should be included or referred to in the endnotes/footnotes. Incorporate demographic data and participant/beneficiary information, as needed. In developing the project description, the applicant may volunteer or be requested to provide information on the total range of projects currently being conducted and supported (or to be initiated), some of which may be outside the scope of the program announcement.

Results or Benefits Expected

Identify the results and benefits to be derived. For example, when applying for a grant to serve children of incarcerated parents, describe who will receive services, where and how the services will be provided, and how the services will benefit the youth, their families and the community.

Approach

Outline a plan of action that describes the scope and detail of how the proposed work will be accomplished. Account for all functions or activities identified in the application. Cite factors that might accelerate or decelerate the work and state your reason for taking the proposed approach rather than others. Describe any unusual features of the project such as design or technological innovations, reductions in cost or time, or extraordinary social and community involvement.

Provide quarterly reports of accomplishments achieved for each function or activity such as the number of people served and the number of activities achieved. When activity or function cannot quantify accomplishments, list them in chronological order to show the schedule of accomplishments and their target dates.

If any data is to be collected, maintained, and/or disseminated, clearance may be required from the U.S. Office of Management and Budget (OMB). This clearance pertains to any collection of information that is conducted or sponsored by ACF.

List organizations, cooperating entities, consultants, or other key individuals who will work on the project along with a short description of the nature of their effort or contribution.

Staff and Position Data and Organizational Profile

Provide a biographical sketch for each key person appointed and a job description for each vacant key position. A biographical sketch will also be required for new key staff as appointed.

Provide information on the applicant organization(s) and cooperating partners such as organizational charts, financial statements, audit reports or statements from CPAs/Licensed Public Accountants, Employer Identification Numbers, names of bond carriers, contact persons and telephone numbers, child care licenses and other documentation of professional accreditation, information on compliance with Federal/State/local government standards, documentation of experience in the program area, and other pertinent information. Any nonprofit organization submitting an application must submit proof of its application at the time of submission. The nonprofit agency can accomplish this by providing a copy of the applicant's listing in the Internal Revenue Service's (IRS) most recent list of tax-exempt organizations described in Section 501(C)(3) of the IRS code, or by providing a copy of the articles of incorporation bearing the seal of the State in which the corporation or association is domiciled.

Budget and Budget Justification

Provide line item detail and detailed calculations for each budget object class identified on the Budget Information form. Detailed calculations must include estimation methods, quantities, unit costs, and other similar quantitative detail sufficient for the calculation to be duplicated. The detailed budget must also include a breakout by the funding sources identified in Block 15 of the SF-424. Provide a narrative budget justification that describes how the categorical costs are derived. Discuss the necessity, reasonableness, and allocability of the proposed costs.

General

The following guidelines are for preparing the budget and budget justification. Both Federal and non-Federal resources shall be detailed and justified in the budget and narrative justification. For purposes of preparing the budget and budget justification, “Federal resources” refers only to the ACF grant for which you are applying. Non-Federal resources are all other Federal and non-Federal resources. It is suggested that budget amounts and computations be presented in a columnar format: first column, object class categories; second column, Federal budget; next column(s), non-Federal budget(s), and last column, total budget. The budget justification should be a narrative.

Personnel

Description: Costs of new employee salaries and wages.

Justification: Identify the project director or principal investigator, if known. For each staff person, provide the title, time commitment to the project (in months), time commitment to the project (as a percentage or full-time equivalent), annual salary, grant salary, wage rates, etc. Do not include the costs of consultants or personnel costs of delegate agencies or of specific project(s) or businesses to be financed by the applicant.

Fringe Benefits

Description: Costs of employee fringe benefits unless treated as part of an approved indirect cost rate.

Justification: Provide a breakdown of the amounts and percentages that comprise fringe benefit costs such as health insurance, FICA, retirement insurance, taxes, etc.

Travel

Description: Costs of project-related travel by employees of the applicant organization (does not include costs of consultant travel).

Justification: For each trip, show the total number of traveler(s), travel destination, duration of trip, per diem, mileage allowances, if privately owned vehicles will be used, and other transportation costs and subsistence allowances. Travel costs for key staff to attend ACF-sponsored workshops should be detailed in the budget.

Equipment

Description: “Equipment” means an article of nonexpendable, tangible personal property having a useful life of more than one year and an acquisition cost which equals or exceeds the lesser of (a) the capitalization level established by the organization for the financial statement purposes, or (b) $5,000. (Note: Acquisition cost means the net invoice unit price of an item of equipment, including the cost of modifications, attachments, accessories, or auxiliary apparatus necessary to make it usable for the purpose for which it is acquired. Ancillary charges, such as taxes, duty, protective in-transit insurance, freight, and installation shall be included in or excluded from acquisition cost in accordance with organization's regular written accounting practices.)

Justification: For each type of equipment requested, provide a description of the equipment, the cost per unit, the number of units, the total cost, and a plan for use on the project, as well as use or disposal of the equipment after the project ends. An applicant organization that uses its own definition for equipment should provide a copy of its policy, which includes the equipment definition.

Supplies

Description: Costs of all tangible personal property other than that included under the Equipment category.

Justification: Specify general categories of supplies and their costs. Show computations and provide other information that supports the amount requested.

Contractual

Description: Costs of all contracts for services and goods except for those that belong under other categories such as equipment, supplies, construction, etc. Third-party evaluation contracts (if applicable) and contracts with secondary recipient organizations, including delegate agencies and specific project(s) or businesses to be financed by the applicant, should be included under this category.

Justification: All procurement transactions shall be conducted in a manner to provide, to the maximum extent practical, open and free competition. Recipients and sub recipients, other than States that are required to use Part 92 procedures, must justify any anticipated procurement action that is expected to be awarded without competition and exceed the simplified acquisition threshold fixed at 41 U.S.C. 403(11)(currently set at $100,000). Recipients might be required to make available to ACF pre-award review and procurement documents, such as request for proposals or invitations for bids; independent cost estimates, etc.

Note: Whenever the applicant intends to delegate part of the project to another agency, the applicant must provide a detailed budget and budget narrative for each delegate agency, by agency title, along with the required supporting information referred to in these instructions.

Indirect Charges

Description: Total amount of indirect costs. The Department of Health and Human Services (HHS) or another cognizant Federal agency should use this category only when the applicant currently has an indirect cost rate approval.

Justification: An applicant that will charge indirect costs to the grant must enclose a copy of the current rate agreement. If the applicant organization is in the process of initially developing or renegotiating a rate, it should immediately upon notification that an award will be made, develop a tentative indirect cost rate proposal based on its most recently completed fiscal year in accordance with the principles set forth in the cognizant agency's guidelines for establishing indirect cost rates and submit it to the cognizant agency. Applicants awaiting approval of their indirect cost proposals may also request indirect costs. It should be noted that when an indirect cost rate is requested, those costs included in the indirect cost pool should not also be charged as direct costs to the grant. Also, if the applicant is requesting a rate which is less than what is allowed under the program, the authorized representative of the applicant organization must submit a signed acknowledgement that the applicant is accepting a lower rate than allowed.

Program Income

Description: The estimated amount of income, if any, expected to be generated from this project.

Justification: Describe the nature, source and anticipated use of program income in the budget or refer to the pages in the application that contain this information.

Non-Federal Resources

Description: Amounts on non-Federal resources that will be used to support the project as identified in Block 15 of the SF-424.

Justification: The firm commitment of these resources must be documented and submitted with the application in order to be given credit in the review process. A detailed budget must be prepared for each funding source.

Total Direct Charges, Total Indirect Charges, Total Project Costs

Self-explanatory.

Assurance of Non-Construction

Application requesting financial assistance for non-construction projects must file the Standard Form 424B, “Assurances: Non-Construction Programs.” Applicants must sign and return the Standard Form 424B with their applications.

Approach in determining the quality of the project design or approach the following factors are considered: (30 points)

• The detailed plan designed to identify, screen, and recruit mentors. The description of detailed volunteer screening procedures to ensure that the mentor poses no safety risk to the child and has the necessary skills to participate in a mentoring relationship. (10 points)

• The resources that will be coordinated to support the needs of caretakers and other children in the family setting. Also, when appropriate, the extent that the program proposes to partner with identified programs supporting incarcerated parents and addresses their re-entry. (5 points)

• The training process for mentors based on best practices which will ensure their ability to successfully mentor this special population. (5 points)

• The quality of the mechanism that will be used to match children with mentors, demonstrating sensitivity to the diverse needs of the children and the support provided for mentors in order to sustain long-term mentoring relationships. (5 points)

• The level of supervision, oversight, and monitoring of the child and mentor relationships and activities. The description of the expected ratio of staff to mentors. The detailed plan for collecting, on a monthly basis, data documenting meetings and activities by trained volunteer coordinators to ensure personal oversight and safety of the children and their mentors. (5 points)

Results and benefits expected in determining the quality of expected benefits the following factors are considered: (20 points)

• The extent to which goals, objectives, and outcomes to be achieved by the proposed project are clearly specified and measurable. (10 points)

• The extent to which the methods of evaluation will provide performance feedback and permit periodic assessment of progress toward achieving intended outcomes. (5 points)

• The extent to which outcomes reflect gains in positive social behaviors, youth engagement, and asset acquisition. (5 points)

Staff and position data and organizational profile in reviewing the required staff and position data and the organizational profile, the following factors are considered: (20 points)

• A demonstrated history of providing services to youth and families in disadvantaged situations, along with the ability to partner and build coalitions at the community level along with specific definition of the area where services are to be delivered. (Maps and graphic aids may be attached as part of the supplementary documentation.) (10 points)

• The extent to which community stakeholders, including parents, incarcerated parents, local community organizations, schools, government, caretakers and children, have participated in the project design. The list and description of how these partners will contribute to the mentoring network. (5 points)

• The quality of skills, knowledge, and experience of the project director and project staff. This includes job descriptions, as well as a description of staff training and specific cultural diversity training related to mentoring the target population. (5 points)

Objectives and need for assistance in determining the need of assistance for the proposed project, the following factors are considered: (15 points)

• The conditions and characteristics of youth and families affected by incarceration in the service delivery area. The description must demonstrate an awareness of the special needs of this population, including service delivery gaps and the magnitude of the problem within the service delivery area. (5 points)

• The calculation of the number of children with parents in prison and projection of the number of mentor-child matches proposed to be established and maintained annually under the program. (5 points)

• The extent to which there are existing support services for this population of youth, with specific references to coordination of courts, health and mental health care, social services, school, and child welfare. It must be clear that the mentoring program will complement and enhance, not duplicate available services and that the mentoring program will work in conjunction with these services to produce better outcomes for children and families. (5 points)

Budget and budget justification in determining the soundness of the budget and budget justification, the following factors are considered: (15 points)

• The extent to which costs of the proposed program are reasonable and justified in terms of numbers of children of prisoners, types and quantities of services to be provided, and the anticipated results and benefits. Discussion should refer to the budget information presented on Standard Form 424 and 424A and the applicant's budget justification. (10 points)

• Identification of fiscal control and accounting procedures that will be used to ensure the prudent use, proper disbursement, and accurate accounting of federal funds received, as well as the accounting of cash and in-kind for the non-federal match. (5 points)

2. Review and Selection Process

All applications which are complete and conform to the requirements of this program announcement will be subject to a competitive review and evaluation against the specific grant program criteria outlined in this announcement. This review will be conducted in Washington, DC, by panels of non-Federal experts knowledgeable in the areas related to children of prisoners, child development and human services. The overall panel review is managed by Federal staff.

Application review panels will assign a score to each application, identifying its strengths and weaknesses. Central office staff will conduct administrative reviews of those applications within funding range. After all reviews have been completed, FYSB staff will recommend the application for funding to the Commissioner, ACYF. The Commissioner will make the final selection of the applications to be funded.

Please note that here will be a 5 percent set aside specifically for tribes and tribal consortia.

VI. Award Administration Information

1. Award Notices

The successful applicants will be notified through the issuance of a Financial Assistance Award document which will set forth the amount of funds granted, the terms and conditions of the grant, the effective date of the grant, the budget period for which initial support will be given, the non-Federal share to be provided and the total project period for which support is contemplated. The Financial Assistance Award will be signed by the Grants Officer.

Organizations whose applications will not be funded will be notified in writing by the Administration on Children, Youth and Families.

2. Administrative and National Policy Requirements

45 CFR Part 74 and 45 CFR Part 92.

Paperwork Reduction Act of 1995 (Pub. L. 104-13): Under the Paperwork Reduction Act of 1995, Public Law 104-13, the Department is required to submit to the Office of Management and Budget (OMB) for review and approval any reporting and record keeping requirements or regulations including program announcements. This program announcement does not contain information collection requirements beyond those approved for ACF grant applications under the Program Narrative Statement by OMB (Approval Number 0980-0204).

3. Reporting

Programatic Reports: Quarterly.

Financial Reports: Semi-Annually.

Reporting Requirements: All grantees are required to submit quarterly program reports; grantees are also required to submit semi-annual expenditure reports using the required financial standard form (SF-269) which is located on the Internet at: http://forms.psc.gov/forms/sf/SF-269.pdf. A suggested format for the program report will be sent to all grantees after the awards are made.

VII. Agency Contacts

Program Office Contact: Linda V. Barnett, 370 L'Enfant Promenade, SW., Washington, DC 20447, (202) 401-9358, lbarnett@acf.hhs.gov.

Grants Management Office Contact: Sylvia Johnson, 370 L'Enfant Promenade, SW., Washington, DC 20447, (202) 401-2344, SYJohnson@acf.hhs.gov.

General: The Dixon Group, ACYF Operations Center, 118 Q Street, NE., Washington, DC 20002-2132, Telephone: (800) 351-2293 or (202) 245-9111 ext. 201.

VIII. Other Information

Additional information about this program and its purpose can be located on the following websites: http://www.ncfy.com, http://www.manynet.org, http://www.dhhs.gov/fbci.

Dated: February 18, 2004.
Wade F. Horn,
Assistant Secretary for Children and Families.

[FR Doc. 04-3844 Filed 2-20-04; 8:45 am]

BILLING CODE 4184-01-P